ENVIRONMENTAL PROTECTION AGENCY

40 CFR Part 300

[FRL-7258-5]

National Oil and Hazardous Substance Pollution Contingency Plan; National Priorities List

AGENCY: Environmental Protection Agency.

ACTION: Notice of intent to delete Operable Unit (OU) No. 2 of the Tex Tin Superfund Site from the National Priorities List.

SUMMARY: The Environmental Protection Agency (EPA) Region 6 is issuing a notice of intent to delete OU No. 2 of the Tex Tin Superfund Site located in Texas City, Galveston County, Texas from the National Priorities List (NPL) and requests public comments on this notice of intent. The NPL, promulgated pursuant to section 105 of the Comprehensive Environmental Response, Compensation, and Liability Act (CERCLA) of 1980, as amended, is found at appendix B of 40 CFR part 300 of the National Oil and Hazardous Substances Pollution Contingency Plan (NCP). The EPA and the State of Texas, through the Texas Natural Resource Conservation Commission (TNRCC), have determined that all appropriate response actions under CERCLA, other than operation and maintenance and five-year reviews, have been completed. However, this deletion does not preclude future actions under Superfund, nor does it preclude future actions under the Texas Voluntary Cleanup Program (VCP) for OU No. 2. In the “Rules and Regulations” Section of today's Federal Register, we are publishing a direct final notice of deletion of OU No. 2 of the Tex Tin Superfund Site without prior notice of intent to delete because we view this as a noncontroversial revision and anticipate no adverse comment.

We have explained our reasons for this deletion in the preamble to the direct final deletion. If we receive no adverse comment(s) on this notice of intent to delete or the direct final notice of deletion, we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the direct final notice of deletion which is located in the Rules section of this Federal Register.

DATES: Comments concerning this Site must be received by September 16, 2002.

ADDRESSES: Written comments should be addressed to: Donn Walters, Community Involvement Coordinator, U.S. EPA (6SF-PO), 1445 Ross Avenue—Suite 1200, Dallas, Texas, 75202-2733, (214) 665-6483 or 1-800-533-3508 (toll free).

FOR FURTHER INFORMATION CONTACT: Carlos A. Sanchez, Remedial Project Manager, U.S. EPA (6SF-A), 1445 Ross Avenue—Suite 1200, Dallas, Texas, 75202-2733, (214) 665-8507.

SUPPLEMENTARY INFORMATION: For additional information, see the Direct Final Notice of Deletion which is located in the Rules section of this Federal Register.

Information Repositories: Repositories have been established to provide detailed information concerning this decision at the following address: Region 6, 12th Floor Library, 1445 Ross Avenue, Dallas, Texas 75202-2733, (214) 665-6427, Monday through Friday 7:30 am to 4:30 pm; Moore Memorial Public Library, 1701 Ninth Avenue North, Texas City, Texas 77590, (409) 643-5979, Monday through Wednesday 9 a.m. to 9 p.m., Thursday and Friday 9 a.m. to 6 p.m., Saturday 10 a.m. to 4 p.m.; Texas Natural Resource Conservation Commission, Building D, Record Management, Room 190, 12100 North Interstate Highway 35, Austin, Texas 78753, (512) 239-2920, Monday through Friday 8 a.m. to 5 p.m.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 29, 2002.
Gregg A. Cooke,
Regional Administrator, Region 6.

[FR Doc. 02-20447 Filed 8-14-02; 8:45 am]

BILLING CODE 6560-50-P